DEPARTMENT OF ENERGY

Federal Energy Regulatory Commission

Combined Notice of Filings

Take notice that the Commission has received the following Natural Gas Pipeline Rate and Refund Report filings:

Filings Instituting Proceedings

Docket Numbers: PR14-17-000.

Applicants: Public Service Company of Colorado.

Description: Tariff filing per 284.123(b)(1)/.: 20140130 PSCo SOR Rate Filing to be effective 1/1/2014 TOFC: 980.

Filed Date: 1/30/14.

Accession Number: 20140130-5356.

Comments Due: 5 p.m. ET 2/20/14.

Docket Numbers: PR14-18-000.

Applicants: Peoples TWP LLC.

Description: Tariff filing per 284.123(b)(1) +: Rate Change to be effective 1/31/2014 TOFC: 1300.

Filed Date: 1/31/14.

Accession Number: 20140131-5230.

Comments Due: 5 p.m. ET 2/21/14.

284.123(g) Protests Due: 5 p.m. ET 4/1/14.

Docket Numbers: PR14-19-000.

Applicants: Wisconsin Power and Light Company.

Description: Tariff filing per 284.123(b)(1),: Statement of Operating Conditions for Interstate Transportation Service to be effective 1/28/2014 TOFC: 990.

Filed Date: 2/3/14.

Accession Number: 20140203-5152.

Comments Due: 5 p.m. ET 2/24/14.

Docket Numbers: PR14-20-000.

Applicants: Southcross Mississippi Pipeline, L.P.

Description: Tariff filing per 284.123(b)(1)/.: Petition for Rate Approval to be effective 2/1/2014 TOFC: 980.

Filed Date: 2/3/14.

Accession Number: 20140203-5203.

Comments Due: 5 p.m. ET 2/24/14.

Docket Numbers: PR14-21-000.

Applicants: Ameren Illinois Company.

Description: Tariff filing per 284.224: Application for a Blanket Certificate under 284.244 to be effective 2/4/2014 TOFC: 1340.

Filed Date: 2/4/14.

Accession Number: 20140204-5001.

Comments Due: 5 p.m. ET 2/25/14.

Docket Numbers: RP14-443-000.

Applicants: Rockies Express Pipeline LLC.

Description: Neg Rate 2014-02-04 Conoco Phillips to be effective 2/5/2014.

Filed Date: 2/4/14.

Accession Number: 20140204-5108.

Comments Due: 5 p.m. ET 2/18/14.

Docket Numbers: RP14-444-000.

Applicants: Enable Gas Transmission, LLC.

Description: Negotiated Rate Filing—February 2014—Tenaska 9840 Att A to be effective 2/5/2014.

Filed Date: 2/5/14.

Accession Number: 20140205-5111.

Comments Due: 5 p.m. ET 2/18/14.

Docket Numbers: RP14-445-000.

Applicants: Midwestern Gas Transmission Company.

Description: Midwestern Gas Transmission Company submits tariff filing per 154.204: Negotiated Rate PAL Agreement—NJR Energy Services Company to be effective 2/6/2014.

Filed Date: 2/6/14.

Accession Number: 20140206-5001.

Comments Due: 5 p.m. ET 2/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2014.
Nathaniel J. Davis, Sr.,
Deputy Secretary.

[FR Doc. 2014-03202 Filed 2-13-14; 8:45 am]

BILLING CODE 6717-01-P